DEPARTMENT OF TRANSPORTATION

Federal Aviation Administration

Membership in the National Parks Overflights Advisory Group

AGENCY: Federal Aviation Administration (FAA), Department of Transportation (DOT).

ACTION: Solicitation of applications.

SUMMARY: The Federal Aviation Administration (FAA) and the National Park Service (NPS) invite interested persons to apply to fill one current and five upcoming vacancies on the National Parks Overflights Advisory Group (NPOAG). This notice invites interested persons to apply for the openings. The current opening is for a representative of Native American tribes. The upcoming openings are for another representative of Native American tribes, two representatives of the commercial air tour operators, and three representatives of environmental concerns.

DATES: Persons interested in these membership openings will need to apply by July 27, 2023.

FOR FURTHER INFORMATION CONTACT: Sandi Fox, Environmental Protection Specialist, FAA Office of Environment and Energy, 800 Independence Ave. SW, Suite 900W, Washington, DC 20591, telephone: (202) 267-0928, email: Sandra.Y.Fox@faa.gov.

SUPPLEMENTARY INFORMATION:

Background

The National Parks Air Tour Management Act of 2000 (the Act) was enacted on April 5, 2000, as Public Law 106-181, and subsequently amended in the FAA Modernization and Reform Act of 2012. The Act required the establishment of the advisory group within one year after its enactment. The NPOAG was established in March 2001. The advisory group is comprised of representatives of general aviation, commercial air tour operators, environmental concerns, and Native American tribes. The Administrator of the FAA and the Director of NPS (or their designees) serve as ex officio members of the group. Representatives of the Administrator and Director serve alternating 1-year terms as chairman of the advisory group.

In accordance with the Act, the advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG is made up of one member representing general aviation, three members representing commercial air tour operators, four members representing environmental concerns, and two members representing Native American tribes. Members serve three-year terms. Current members of the NPOAG are as follows: Murray Huling representing general aviation; Eric Lincoln, James Viola, and John Becker representing commercial air tour operators; Robert Randall, Dick Hingson, Les Blomberg, and John Eastman representing environmental interests; and Carl Slater representing Native American tribes, with one current opening for a Native American tribe representative. The three-year terms of Mr. Becker, Mr. Blomberg, Mr. Eastman, Mr. Hingson, and Mr. Viola expire on August 30, 2023.

Selections

To retain balance within the NPOAG, the FAA and NPS are seeking candidates interested in filling the one current vacant seat representing Native American tribes, two upcoming vacancies representing the commercial air tour industry, and three upcoming vacancies representing environmental concerns. The FAA and NPS invite persons interested in these openings on the NPOAG to contact the person listed in the FOR FURTHER INFORMATION CONTACT section.

Requests to serve on the NPOAG must be made in writing and postmarked or emailed on or before July 27, 2023. Any request to fill one of these seats must describe the requestor's affiliation with commercial air tour operators, environmental concerns, or federally recognized Native American tribes, as appropriate. The request should also explain what expertise the requestor would bring to the NPOAG as related to issues and concerns with aircraft flights over national parks or tribal lands. The term of service for NPOAG members is 3 years. Members may re-apply for another term.

On August 13, 2014, the Office of Management and Budget issued revised guidance regarding the prohibition against appointing or not reappointing federally registered lobbyists to serve on advisory committees (79 FR 47482). Therefore, before appointing an applicant to serve on the NPOAG, the FAA and NPS will require the prospective candidate to certify that they are not a federally registered lobbyist.

Issued in Washington, DC, on June 7, 2023.
Sandra Fox,
Environmental Protection Specialist, FAA Office of Environment and Energy.

[FR Doc. 2023-12472 Filed 6-9-23; 8:45 am]

BILLING CODE 4910-13-P